DEPARTMENT OF DEFENSE

Department of the Navy

Public Hearing for the Draft Environmental Impact Statement/Draft Environmental Impact Report (DEIS/DEIR) for the Disposal and Reuse of Fleet and Industrial Supply Center Naval Fuel Depot (NFD) Point Molate, CA

AGENCY: Department of the Navy, DOD.

ACTION: Announcement of public hearing.

SUMMARY: The Department of the Navy (Navy) has prepared and filed with the U.S. Environmental Protection Agency (EPA) a DEIS/DEIR for disposal and reuse of NFD Point Molate, California. A public hearing will be held for the purpose of receiving oral and written comments on the DEIS/DEIR. Federal, local and state of California agencies, and interested individuals are invited to be present at the hearing.

DATES: One public hearing will be held on Wednesday, June 20, 2001, at 6:00 p.m.

ADDRESSES: City of Richmond Council Chambers, 2600 Barrett Avenue, Richmond, CA, 94804.

FOR FURTHER INFORMATION CONTACT: Mr. Robert A. Montana (06CM.RM), Southwest Division, Naval Facilities Engineering Command, 1220 Pacific Highway, San Diego, CA, 92132-5190, telephone (619) 532-0942, facsimile (619) 532-0940.

SUPPLEMENTARY INFORMATION: Pursuant to Section 102(2)(c) of the National Environmental Policy Act of 1969, as implemented by the Council on Environmental Quality regulations (40 CFR Parts 1500-1508), the Navy has prepared and filed with the EPA a DEIS/DEIR for Disposal and Reuse of NFD Point Molate, CA.

A Notice of Intent (NOI) to prepare the DEIS/DEIR was published in the Federal Register on September 15, 1997 (62 FR 178). A public scoping meeting announcement was published on September 27 and 28, 1997, in both the West Contra Costa Times and the Oakland Tribune, and on September 24 and 28, 1997, in the Richmond Post. One public scoping meeting was held on October 1, 1997, at the City of Richmond Council Chambers, Richmond, CA.

The proposed action is the disposal of surplus Navy property for subsequent reuse and redevelopment, in accordance with the 1990 Defense Base Closure and Realignment Act, and the 1995 Base Closure and Realignment Commission recommendations. A parcel totaling 413 acres (167 hectares) has been declared surplus and is the focus of this DEIS/DEIR. NFD Point Molate was operationally closed on September 30, 1998.

The DEIS/DEIR evaluates three reuse alternatives, each emphasizing various types of development, e.g., residential, commercial, industrial, open space, recreation, etc. A fourth alternative, no action, assumes no disposal of property and retention of the depot by the Navy in caretaker status. Under the No Action alternative, the site would not be reused or redeveloped. Environmental cleanup would continue and be completed.

The base reuse plan recommended by the Blue Ribbon Advisory Committee, a committee appointed by the Local Redevelopment Authority (LRA), was approved by the Richmond City Council acting as the LRA. It includes the preferred reuse alternative of the City of Richmond and the Navy. This plan, Alternative 2, consists of the following major elements: Commercial uses including retail shops, bed and breakfast establishments, small hotels, conference centers, and office space; industrial uses including manufacturing, sales and distribution businesses, wholesale services, warehousing, data processing, telecommunications, and research and development. No decision on the proposed action will be made until the NEPA process has been completed.

Potential impacts evaluated in the DEIS/DEIR include, but are not limited to land use compatibility; geology and soils, traffic, utilities, air quality, and public services. With one exception, all potentially significant impacts under all of the reuse alternatives can be mitigated to non-significant levels. Potentially significant but mitigable impacts include: Future odor emissions from necessary sewage treatment plants, future requirements for developments to be implemented in conformance with existing guidelines for seismic hazards, possible future impacts due to increased traffic demand on the existing road network, and an increase in emissions which may exceed local air quality standards. The one exception is a land use compatibility impact; no mitigation is available except to revise the land use plan.

The DEIS/DEIR has been distributed to affected federal, local and state of California agencies and other interested parties. In addition, copies of the DEIS/DEIR are available for review at the following public libraries:

—Richmond Public Library, 325 Civic Center Plaza, Richmond, CA.

—West Side Branch Library, 135 Washington Avenue, Pt. Richmond, CA.

A public hearing will be held to inform the public of the DEIS/DEIR findings and to solicit and receive oral and written comments. The hearing will be held at 6:00 p.m. on Wednesday, June 20, 2001, at city of Richmond Council Chambers, 2600 Barrett Avenue, Richmond, CA 94804. Government agencies and interested parties are invited to be present at the hearing. Oral comments will be heard and transcribed by a court recorder; written comments are also requested to ensure accuracy of the record. All comments, both oral and written, will become part of the official record. In the interest of available time, each speaker will be asked to limit oral comments to three minutes. Those who intend to speak will be asked to submit a speaker card (available at the door). Longer comments should be summarized at the public hearing and submitted in writing either at the hearing or mailed to Mr. Robert A. Montana at the address given above. Written comments are requested not later than July 2, 2001.

Dated: May 8, 2001.
J.L. Roth,
Lieutenant Commander, Judge Advocate General's Corps, U.S. Navy, Federal Register Liaison Officer.

[FR Doc. 01-12568 Filed 5-17-01; 8:45 am]

BILLING CODE 3810-FF-P